DEPARTMENT OF TRANSPORTATION

National Highway Traffic Safety Administration

49 CFR Part 571

[Docket NHTSA-03-15351]

RIN 2127-AI34

Federal Motor Vehicle Safety Standards; Child Restraint Systems; Correction

AGENCY: National Highway Traffic Safety Administration (NHTSA), Department of Transportation.

ACTION: Correcting amendments.

SUMMARY: This document corrects a final rule (Docket NHTSA-03-15351) that was published Tuesday, June 24, 2003 (68 FR 37620). The rule updated test procedures in Federal Motor Vehicle Safety Standard (FMVSS) No. 213, “Child Restraint Systems,” and expanded the standard to restraints for children weighing up to 65 pounds.

DATES: Effective October 4, 2004.

FOR FURTHER INFORMATION CONTACT: Deirdre Fujita, Office of the Chief Counsel, NHTSA, telephone 202-366-2992; fax 202-366-3820, 400 Seventh St., SW., Washington, DC 20590.

SUPPLEMENTARY INFORMATION: The final rule that is the subject of this correction amended Federal Motor Vehicle Safety Standard No. 213, Child Restraint Systems (49 CFR 571.213) to update the procedures used to test child restraint systems.

Need for Correction

As published, the final rule contains two minor errors that the agency wants to correct to ensure the clarity of the standard. First, there are two paragraphs designed (ii) in S6.1.1(a)(1). The first such paragraph should be changed to (i). Second, paragraph (e) of S7.1.1 should be removed. S7.1.1 sets forth requirements that apply to child restraints manufactured before August 1, 2005. Paragraph (e) relates to child restraints manufactured on or after August 1, 2005 and thus does not belong in S7.1.1.

List of Subjects in 49 CFR Part 571

Imports, Incorporation by reference, Motor vehicle safety, Reporting and recordkeeping requirements, Tires.

In consideration of the foregoing, NHTSA amends 49 CFR Chapter V as set forth below.

PART 571—FEDERAL MOTOR VEHICLE SAFETY STANDARDS

1. The authority citation for Part 571 continues to read as follows:

Authority: 49 U.S.C. 322, 30111, 30115, 30117 and 30166; delegation of authority at 49 CFR 1.50.

2. Correct § 571.213 as follows:

a. S6.1.1(a)(1) is revised to read as set forth below.

b. In S7.1.1, paragraph (e) is removed.

§ 571.213 Standard No. 213; Child restraint systems.

* * * * *

S6.1.1 Test conditions.

(a) Test devices.

(1) Add-on child restraints.

(i) The test device for add-on restraint systems manufactured before August 1, 2005 is a standard seat assembly consisting of a simulated vehicle bench seat, with three seating positions, which is described in Drawing Package SAS-100-1000 with Addendum A: Seat Base Weldment (consisting of drawings and a bill of materials), dated October 23, 1998 (incorporated by reference in § 571.5). The assembly is mounted on a dynamic test platform so that the center SORL of the seat is parallel to the direction of the test platform travel and so that movement between the base of the assembly and the platform is prevented.

(ii) The test device for add-on restraint systems manufactured on or after August 1, 2005 is a standard seat assembly consisting of a simulated vehicle bench seat, with three seating positions, which is depicted in Drawing Package, “NHTSA Standard Seat Assembly; FMVSS No. 213, No. NHTSA-213-2003,” (consisting of drawings and a bill of materials) dated June 3, 2003 (incorporated by reference; see § 571.5). The assembly is mounted on a dynamic test platform so that the center SORL of the seat is parallel to the direction of the test platform travel and so that movement between the base of the assembly and the platform is prevented.

* * * * *

Issued on September 28, 2004.
Stephen R. Kratzke,
Associate Administrator for Rulemaking.

[FR Doc. 04-22279 Filed 10-1-04; 8:45 am]

BILLING CODE 4910-59-P